NUCLEAR REGULATORY COMMISSION

[NRC-2020-0252]

Quality Group Classifications and Standards for Water-, Steam-, and Radioactive-Waste-Containing Components of Nuclear Power Plants

AGENCY: Nuclear Regulatory Commission.

ACTION: Draft regulatory guide; request for comment.

SUMMARY: The U.S. Nuclear Regulatory Commission (NRC) is issuing for public comment draft regulatory guide (DG), DG-1371, “Quality Group Classifications and Standards for Water-, Steam-, and Radioactive-Waste-Containing Components of Nuclear Power Plants.” This proposed Revision 6 of Regulatory Guide (RG) 1.26, incorporates additional information that provides guidance for alternative quality classification systems for components in light-water reactor (LWR) nuclear power plants and updates the staff position regarding classification of Quality Group C components to reflect the latest guidance on systems that contain radioactive material since Revision 5 (02/2017), of RG 1.26 was issued. The appendices to this RG provide guidance for alternative quality classification systems for components in LWR nuclear power plants.

DATES: Submit comments by July 6, 2021. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods; however, the NRC encourages electronic comment submission through the Federal Rulemaking website:

• Federal Rulemaking Website: Go to https://www.regulations.gov and search for Docket ID NRC-2020-0252. Address questions about Docket IDs in Regulations.gov to Stacy Schumann; telephone: 301- 415-0624; email: Stacy.Schumann@nrc.gov. For technical questions, contact the individuals listed in the FOR FURTHER INFORMATION CONTACT section of this document.

• Mail comments to: Office of Administration, Mail Stop: TWFN-7A06, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Thomas Scarbrough, Office of Nuclear Reactor Regulation, telephone: 301-415-2794 email: Thomas.Scarbrough@nrc.gov or James Steckel, Office of Nuclear Regulatory Research, telephone: 301 415-1026 email: James.Steckel@nrc.gov. Both are staff members of the U.S. Nuclear Regulatory Commission, Washington, DC 20555-0001.

SUPPLEMENTARY INFORMATION:

I. Obtaining Information and Submitting Comments

A. Obtaining Information

Please refer to Docket ID NRC-2020-0252 when contacting the NRC about the availability of information regarding this action. You may obtain publicly available information related to this action, by any of the following methods:

• Federal Rulemaking Website: Go to https://www.regulations.gov and search for Docket ID NRC-2020-0252.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

B. Submitting Comments

The NRC encourages electronic comment submission through the Federal Rulemaking Website (https://www.regulations.gov). Please include Docket ID NRC-2020-0252 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

The NRC is issuing for public comment a draft guide in the NRC's “Regulatory Guide” series. This series was developed to describe methods that are acceptable to the NRC staff for implementing specific parts of the agency's regulations, to explain techniques that the staff uses in evaluating specific issues or postulated events, and to describe information that the staff needs in its review of applications for permits and licenses.

The DG, titled, “Quality Group Classifications and Standards for Water-, Steam-, and Radioactive-Waste-Containing Components of Nuclear Power Plants” is a proposed revision temporarily identified by its task number, DG-1371 (ADAMS Accession No. ML20168A883). The draft guide is proposed Revision 6 of RG 1.26, “Quality Group Classifications and Standards for Water-, Steam-, and Radioactive-Waste-Containing Components of Nuclear Power Plants” (ADAMS Accession No. ML16082A501). The proposed revision guidance for a quality classification system related to specified national standards that may be used to determine quality standards acceptable to the staff of the NRC for satisfying General Design Criterion 1, “Quality Standards and Records,” as set forth in appendix A, “General Design Criteria for Nuclear Power Plants,” part 50 of title 10 of the Code of Federal Regulations (CFR), “Domestic Licensing of Production and Utilization Facilities” for components containing water, steam, or radioactive material in light-water-cooled nuclear power plants.

Changes are being made to provide guidance for alternative quality classification systems for components in light-water reactor nuclear power plants and updates the staff position regarding classification of Quality Group C components to reflect the latest guidance on systems that contain radioactive material since Revision 5, (02/2017) of RG 1.26 was issued.

The staff is also issuing for public comment a draft regulatory analysis (ADAMS Accession No. ML20168A893). The staff develops a regulatory analysis to assess the value of issuing or revising a regulatory guide as well as alternative courses of action.

III. Backfitting, Forward Fitting, and Issue Finality

DG-1371, if finalized, would revise RG 1.26, incorporate additional information that provides guidance for alternative quality classification systems for components in LWR nuclear power plants, and update the staff position regarding classification of Quality Group C components to reflect the latest guidance on systems that contain radioactive material. Issuance of DG-1371, if finalized, would not constitute backfitting as defined in 10 CFR 50.109, “Backfitting,” and as described in NRC Management Directive (MD) 8.4, “Management of Backfitting, Forward Fitting, Issue Finality, and Information Requests”; constitute forward fitting as that term is defined and described in MD 8.4; or affect the issue finality of any approval issued under 10 CFR part 52.

Dated: May 4, 2021.
For the Nuclear Regulatory Commission.
Meraj Rahimi,
Chief, Regulatory Guidance and Generic Issues Branch, Division of Engineering, Office of Nuclear Regulatory Research.

[FR Doc. 2021-09728 Filed 5-6-21; 8:45 am]

BILLING CODE 7590-01-P